DEPARTMENT OF HEALTH AND HUMAN SERVICES

Food and Drug Administration

[Docket No. 00N 1246]

Agency Information Collection Activities; Submission for OMB Review; Comment Request; Food Safety Survey; Correction

AGENCY: Food and Drug Administration, HHS.

ACTION: Notice; correction.

SUMMARY: The Food and Drug Administration (FDA) is correcting a notice that appeared in the Federal Registerof August 18, 2000 (65 FR 50541). The document announced an opportunity for public comment on a proposed collection of information, concerning a food safety survey, that has been submitted to the Office of Management and Budget for review and clearance under the Paperwork Reduction Act of 1995. The notice published with an inadvertent error. This document corrects that error.

FOR FURTHER INFORMATION CONTACT: Peggy Schlosburg, Office of Information Resources Management (HFA-250), Food and Drug Administration, 5600 Fishers Lane, Rockville, MD 20857, 301-827-1223.

SUPPLEMENTARY INFORMATION: In FR Doc. 00N-21007 appearing on page 50541 in the Federal Register of Friday, August 18, 2000, the following correction is made:

On page 50541, in the second column, under the heading “Food Safety Survey (OMB Control Number 0910-0345)—Extension”, the phrase “Under section 903(b)(2) of the Federal Food, Drug, and Cosmetic Act (21 U.S.C. 393(b)(2))” is corrected to read “Under section 903(d)(2) of the Federal Food, Drug, and Cosmetic Act (21 U.S.C. 393(d)(2))”.

Dated: September 12, 2000.
William K. Hubbard,
Senior Associate Commissioner for Policy, Planning, and Legislation.

[FR Doc. 00-23885 Filed 9-15-00; 8:45 am]

BILLING CODE 4160-01-F